DEPARTMENT OF AGRICULTURE

Submission for OMB Review; Comment Request

December 9, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by January 13, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Reporting Requirements Under Regulations Governing Inspection and Grading Services of Manufactured or Processed Dairy Products and the Certification of Sanitary Design & Fabrication of Equipment used in the Slaughter, Processing, and Packaging of Livestock and Poultry Products.

OMB Control Number: 0581-0126.

Summary of Collection: The Agricultural Marketing Act (AMA) of 1946 (7 U.S.C. 1621-1627), directs the Department to develop programs which will provide for and facilitate the marketing of agricultural products. The regulations governing the voluntary inspection and grading program for dairy products is contained in 7 CFR part 58. The certification regulations for livestock and poultry products are contained in 7 CFR part 54. The Government, industry and consumer will be well served if the Government can help ensure that dairy products are produced under sanitary conditions and that buyers have the choice of purchasing the quality of the product they desire. The dairy grading program is a voluntary user fee program. For a voluntary inspection program to perform satisfactorily with a minimum of confusion, information must be collected to determine what services are requested.

Need and Use of the Information: The information requested is used to identify products offered for grading; to identify a request from a manufacturer of equipment used in dairy, meat, or poultry industries for evaluation regarding sanitary design and construction; to identify and contact the party responsible for payment of the inspection, grading or equipment evaluation fee and expense; and to identify applicants who wish to be authorized for the display of official identification on product packaging, materials, equipment, utensils, or on descriptive promotional materials. The Agriculture Marketing service will use several forms to collect essential information to carry out and administer the inspection and grading program.

Description of Respondents: Business or other for profit.

Number of Respondents: 307.

Frequency of Responses: Reporting: On occasion; Other (when forms are requested).

Total Burden Hours: 1,027.

Agricultural Marketing Service

Title: Pandemic Response and Safety Program.

OMB Control Number: 0581-0326.

Summary of Collection: The Agricultural Marketing Act of 1946 (AMA) (7 U.S.C. 1621 et seq.) directs and authorizes USDA to administer Federal grant programs. AMS Grant Programs are administered through the Office of Management and Budget (OMB) Guidance for Grants and Agreements based on its regulations under the Uniform Administrative Requirements, Cost Principles, and Audit Requirements for Federal Awards (2 CFR part 200) (85 FR 49506; December 13, 2020). Information collection requirements in this request are needed for AMS to administer a new competitive grant program, in accordance with 2 CFR part 200, entitled the Pandemic Response and Safety (PRS).

PRS is authorized pursuant to the authority of section 751 of the Consolidated Appropriations Act, 2021 (CAA) (Pub. L. 116-260) in response to the ongoing COVID-19 pandemic and worker protections in food processing, distribution, farmers markets, and agricultural production. The AMS Grants Division requests to collect information for this new grant program from individuals, small businesses, and nonprofit organizations working in food processing, distribution, farmers markets, and agricultural production.

Need and Use of the Information: Because this is a voluntary program, respondents request or apply for this specific competitive grant, and in doing so, they provide information. Information collected is used only by authorized representatives of USDA, AMS, Transportation and Marketing Program's Grants Division to certify that grant participants are complying with applicable program regulations, and the data collected is the minimum information necessary to effectively carry out program requirements. Information collection requirements in this request are essential to carry out the intent of section 751 of the CAA, to provide respondents the type of service they request, and to administer the program.

Description of Respondents: Grant applicants; or grant recipients.

Number of Respondents: 800,000.

Frequency of Responses: Reporting: On occasion; Other (when forms are requested).

Total Burden Hours: 916,660.

Levi S. Harrell,
Departmental Information Collection Clearance Officer.

[FR Doc. 2021-27016 Filed 12-13-21; 8:45 am]

BILLING CODE 3410-02-P